DEPARTMENT OF COMMERCE

[Docket No. 111115678-1670-01]

RIN 0605-XA37

Privacy Act of 1974; System of Records

AGENCY: U.S. Census Bureau, Department of Commerce.

ACTION: Notice of Amendment, Privacy Act System of Records; COMMERCE/CENSUS-3, Individual and Household Statistical Surveys and Special Studies Records.

SUMMARY: In accordance with the Privacy Act of 1974, as amended, Title 5 United States Code (U.S.C.) 552a(e)(4) and (11); and Office of Management and Budget (OMB) Circular A-130, Appendix I, “Federal Agency Responsibilities for Maintaining Records About Individuals,” the Department of Commerce is issuing notice of intent to amend the system of records COMMERCE/CENSUS-3, Individual and Household Statistical Surveys and Special Studies Records. This amendment would change the name of the system of records to “Special Censuses, Surveys, and Other Studies;” amend certain provisions concerning the purpose of the system of records; update categories of individuals and records covered by the system; change procedures governing retrieval, storage, retention, disposal, and safeguards of the records in the system; and make other minor administrative updates. Accordingly, the system notice for COMMERCE/CENSUS-3, Individual and Household Statistical Surveys and Special Studies Records published in the Federal Register on November 01, 2002 (67 FR 66608) is amended as below. We invite public comment on the system amendment announced in this publication.

DATES: Comment Date: To be considered, written comments on the proposed amended system must be submitted on or before February 27, 2012.

Effective Date: Unless comments are received, the amended system of records will become effective as proposed on the date of publication of a subsequent notice in the Federal Register.

ADDRESSES: Please address comments to: Chief Privacy Officer, Room 8H115, U.S. Census Bureau, Washington, DC 20233-3700.

SUPPLEMENTARY INFORMATION: This update makes four program-related changes. The first of four proposed changes to program-related provisions updates the purpose of the system of records to include collection of statistical data from respondents, as well as the methodological research previously included in the original System of Record Notice (SORN). This update is a result of a re-alignment of the Census Bureau's systems of records to separate Census Bureau surveys protected by Title 13 confidentiality provisions from reimbursable surveys not protected by Title 13 confidentiality provisions. Census Bureau surveys protected by Title 13 confidentiality are now covered in this system of records, and reimbursable surveys are covered in COMMERCE/Census-7, “Other Agency Surveys and Reimbursables.” The second proposed change updates the categories of individuals in the system to include administrative records and cognitive interviews. The third change updates the categories of records in the system to provide additional information and details surrounding the records. The last change updates the policies and practices for storing, retaining, disposing, and safeguarding the records in the system to include recordings of survey and cognitive interviews and comprehensively cover the safeguards provided at the U.S. Census Bureau. The entire resulting system of records notice, as amended, appears below.

COMMERCE/CENSUS-3

System Name:

Special Censuses, Surveys, and Other Studies.

Security Classification: None.

System Location:

Bowie Computer Center, U.S. Census Bureau, 17101 Melford Blvd., Bowie, Maryland 20715, and U.S. Census Bureau, National Processing Center, 1201 East 10th Street, Jeffersonville, Indiana 47103; and National Archives and Records Administration, Washington National Records Center, Washington, DC 20409.

Categories of Individuals Covered by the System:

This system covers the population of the United States. Survey respondents typically are individuals aged 15 years old or over. Data collected directly from respondents may be supplemented with data from administrative record files received from other federal, state, or local agencies, or commercial sources. These files are collected and processed under the Statistical Administrative Records system. Administrative record files are from agencies including, the Departments of Agriculture, Education, Health and Human Services, Homeland Security, Housing and Urban Development, Labor, Treasury, Veterans Affairs, and from the Office of Personnel Management, the Social Security Administration, the Selective Service System, and the U.S. Postal Service. Comparable data may also be sought from State agencies and commercial sources. Please see the COMMERCE/CENSUS-8, Statistical Administrative Records System SORN for more information. Additionally, subjects of cognitive interviews (to test understanding of a new survey form, for example) are covered in this system of records.

Categories of Records in the System:

Records in this system of records consist of working statistical files (i.e., those files being analyzed to produce survey results), survey data files (i.e., those files containing answers directly from the respondent), and/or data contact files (i.e., those files used for contacting respondents). Records in this system of records may contain information such as: Respondent contact information—telephone number, email address; Demographic information—date of birth, sex, race, ethnicity, household and family characteristics, mobility status, education, marital status, tribal affiliation, veteran's status, disability status; Geographical information—address and geographic codes; Health information—health problems, type of provider, services provided, cost of services, quality indicators; Economic information—housing and institutional characteristics, income, occupation, employment and unemployment information, health insurance coverage, federal and state program participation, assets and wealth; Activity and event related information—commuting, travel, childcare, recreation, consumer expenditures, community service, drug and alcohol use, and crime victimization; Field Representative (FR) related information—U.S. Census Bureau FR code, which is used only as an administrative control item for each record. Some records in this system of records may be obtained from datasets maintained by the COMMERCE/CENSUS-8, Statistical Administrative Records System where direct identifiers have been replaced with a unique non-identifying code prior to delivery to this system of records, and, therefore are not on the working statistical files. These categories of records are maintained on unique data sets that are extracted or combined on an as needed basis using the unique non-identifying codes but with the original identifiers removed. These records may contain: Demographic information—date of birth, sex, race, ethnicity, household and family characteristics, education, marital status, Tribal affiliation, and veteran's status; Geographical information—address and geographic codes; Mortality information—cause of death and hospitalization information; Health information—type of provider, services provided, cost of services, and quality indicators; Economic information—housing characteristics, income, occupation, employment and unemployment information, health insurance coverage, Federal program participation, assets, and wealth. Another category of records contains two types of records that are maintained on unique data sets that are extracted or combined on an as-needed basis using the unique non-identifying codes but with some name information retained. One type of records contains: Business information—business name, revenues, number of employees, and industry codes in support of economic statistical products. The other type contains: Respondent contact information—name, address, telephone number, age, and sex in support of survey and census data collection efforts. See the COMMERCE/CENSUS-8, Statistical Administrative Records System SORN for more information. However, for limited short-term projects, some records obtained from datasets maintained by the COMMERCE/CENSUS-8, Statistical Administrative Records System may contain some direct identifiers (such as name, Social Security Number (SSN)) that have been retained in working statistical files for this collection. These short-term projects must present project and use proposal documentation to a team of high level managers, and obtain approval to use direct identifiers in these working statistical files. Additionally, direct identifiers collected from survey respondents are routinely maintained on data contact files in order to facilitate respondent contact or to pre-load data for a data collection instrument.

Authorities for Maintenance of the System:

Title 13 U.S.C. 8(b), 182, and 196 provide the authority for the U.S. Census Bureau to conduct statistical surveys.

Purpose(s):

The purpose of this system of records is to collect statistical information from respondents through survey instruments or other means and to conduct methodological research on improving various aspects of surveys authorized by Title 13, U.S.C. 8(b), 182, and 196, such as: survey sampling frame design; sample selection algorithms; questionnaire development, design, and testing; usability testing of computer software and equipment; post data collection processing; data quality review; and non-response research.

Routine Uses of Records Maintained in the System, Including Categories of Users and the Purposes Of Such Uses:

None. The data will be used only for statistical purposes. No disclosures which permit the identification of individual respondents, and no determinations affecting individual respondents are made.

Disclosure to Consumer Reporting Agencies:

None.

Policies and Practices for Storing, Retrieving, Accessing, Retaining, and Disposing of Records in the System:

Storage:

Records (including, but not limited to, sound files of survey or cognitive interviews or electronic datasets) will be stored in a secure computerized system and on magnetic media; output data will be electronic files or paper copies. Paper copies or magnetic media will be stored in a secure area within a locked drawer or cabinet. Data sets may be accessed only by authorized personnel. Control lists will be used to limit access to those employees with a need to know; rights will be granted based on job functions.

Retrievability:

A limited number of sworn U.S. Census Bureau staff will be permitted to retrieve records containing direct identifiers (such as a name or SSN). Staff producing final statistical products will have access only to data sets from which direct identifiers have been deleted and replaced by unique non-identifying codes internal to the U.S. Census Bureau.

Safeguards:

The U.S. Census Bureau is committed to respecting respondent privacy and protecting confidentiality. Through the Data Stewardship Program, we have implemented management, operational, and technical controls and practices to ensure high-level data protection to respondents of our census and surveys. (1) An unauthorized browsing policy protects respondent information from casual or inappropriate use by any person with access to Title 13 protected data. (2) All employees permitted to access the system are subject to the restriction, penalties, and prohibitions of 13 U.S.C. 9 and 214, as modified by Title 18 U.S.C. 3551, et seq.; the Privacy Act of 1974 (5 U.S.C. 552a(b)(4)); and when applicable, Title 26 U.S.C. 7213, 7213A, and 7431; as well as any additional restrictions imposed by statutory authority of a sponsor. (3) All U.S. Census Bureau employees and persons with special sworn status will be regularly advised of regulations issued pursuant to Title 13 U.S.C. governing the confidentiality of the data, and will be required to complete an annual Title 13 awareness program; and those who have access to Federal Tax Information data will be regularly advised of regulations issued pursuant to Title 26 U.S.C. governing the confidentiality of the data, and will be required to complete an annual Title 26 awareness program. (4) All computer systems that maintain sensitive information are in compliance with the Federal Information Security Management Act, which includes auditing and controls over access to restricted data. (5) The use of unsecured telecommunications to transmit individually identifiable information is prohibited. (6) Paper copies that contain sensitive information are stored in secure facilities in a locked drawer or file cabinet behind a locked door. (7) Additional data files containing direct identifiers will be maintained solely for the purpose of data collection activities, such as respondent contact and pre-loading an instrument for a continued interview, and will not be transferred to, or maintained on, working statistical files. (8) Any publications based on this system will be cleared for release under the direction of the U.S. Census Bureau's Disclosure Review Board, which will confirm that all the required disclosure avoidance procedures have been implemented and no information that identifies any individual is released.

Retention and Disposal:

Records are to be retained in accordance with the General Records Schedule and U.S. Census Bureau's records control schedules that are approved by the National Archives and Records Administration. Generally, records are retained for less than 10 years, unless a longer period is necessary for statistical purposes or for permanent archival retention.

System Manager and Address:

Associate Director for Demographic Programs, U.S. Census Bureau, 4600 Silver Hill Road, Washington, DC 20233-8000.

Notification Procedure:

None.

Record Access Procedures:

None.

Contesting Record Procedures:

None.

Record Source Categories:

Individuals and populations covered by selected administrative records systems and U.S. Census Bureau surveys and special censuses.

Exemptions Claimed for this System:

Pursuant to Title 5 U.S.C. 552a(k)(4), this system of records is exempted from the notification, access, and contest requirements of the agency procedures (under 5 Title U.S.C. 552a(c)(3), (d), (e)(1), (e)(4)(G), (H), and (I), and (f)). This exemption is applicable as the data are maintained by the U.S. Census Bureau and required by Title 13 to be used solely as statistical records and are not used in whole or in part in making any determination about an identifiable individual. This exemption is made in accordance with the Department's rules, which appear in 15 CFR part 4 subpart B, and in accordance with agency rules published in the rules section of this Federal Register.

Dated: January 18, 2012.
Jonathan R. Cantor,
Chief Privacy Officer, Department of Commerce.

[FR Doc. 2012-1596 Filed 1-25-12; 8:45 am]

BILLING CODE 3510-07-P